NATIONAL TRANSPORTATION SAFETY BOARD

Sunshine Act; Agenda

TIME AND DATE: 9:30 a.m., Wednesday, November 16, 2005.

PLACE: NTSB Board Room, 429 L'Enfant Plaza, SW., Washington, DC 20594.

STATUS: The one item is open to the public.

MATTER TO BE CONSIDERED:

7734 Highway Accident Report—Multiple Vehicle Collision on Interstate 95, Fairfield, Connecticut, January 17, 2003.

News Media Contact: Telephone: (202) 314-6100.

Individuals requesting specific accommodations should contact Mr. Bill McGruder at (202) 314-6222 by Friday, November 11, 2005.

The public may view the meeting via a live or archived webcast by accessing a link under “News & Events” on the NTSB Home page at http://www.ntsb.gov.

FOR FURTHER INFORMATION CONTACT: Vicky D'Onofrio, (202) 314-6410.

Dated: November 4, 2005.
Vicky D'Onofrio,
Federal Register Liaison Officer.

[FR Doc. 05-22407 Filed 11-4-05; 3:45 pm]

BILLING CODE 7533-01-M